DEPARTMENT OF COMMERCE

International Trade Administration

[C-570-191]

Sol Gel Alumina-Based Ceramic Abrasive Grains From the People's Republic of China: Alignment of Final Countervailing Duty Determination With Final Less-Than-Fair-Value Determination

AGENCY: Enforcement and Compliance, International Trade Administration, Department of Commerce.

DATES: Applicable May 29, 2025.

FOR FURTHER INFORMATION CONTACT: Suresh Maniam, AD/CVD Operations, Office I, Enforcement and Compliance, International Trade Administration, U.S. Department of Commerce, 1401 Constitution Avenue NW, Washington, DC 20230; telephone: (202) 482-1603.

SUPPLEMENTARY INFORMATION:

Background

On January 6, 2025, the U.S. Department of Commerce (Commerce) initiated the countervailing duty (CVD) investigation of sol gel alumina-based ceramic abrasive grains (ceramic abrasive grains) from the People's Republic of China (China).¹ Simultaneously, Commerce initiated the less-than-fair-value (LTFV) investigation of ceramic abrasive grains from China.² The CVD investigation and the LTFV investigation cover the same class or kind of merchandise.

¹ See Sol Gel Alumina-Based Ceramic Abrasive Grains from the People's Republic of China: Initiation of Countervailing Duty Investigation, 90 FR 3175 (January 14, 2025) (Initiation Notice); see also Sol Gel Alumina-Based Ceramic Abrasive Grains from the People's Republic of China: Initiation of Countervailing Duty Investigation; Correction, 90 FR 7659 (January 22, 2025) (Correction Initiation Notice). Commerce corrected a typographical error in the scope language in the Correction Initiation Notice.

² See Sol Gel Alumina-Based Ceramic Abrasive Grains from the People's Republic of China: Initiation of Less-Than-Fair-Value Investigation, 90 FR 3179 (January 14, 2025); see also Sol Gel Alumina-Based Ceramic Abrasive Grains from the People's Republic of China: Initiation of Less-Than-Fair-Value Investigation; Correction, 90 FR 7657 (January 22, 2025) (AD Correction Initiation Notice). Commerce corrected a typographical error in the scope language in the Correction Initiation Notice.

Alignment With Final LTFV Determinations

On May 19, 2025, in accordance with section 705(a)(1) of the Tariff Act of 1930, as amended (the Act), Saint-Gobain Ceramics & Plastics Inc. (the petitioner) timely requested an alignment of the final CVD determination with the final LTFV determination of ceramic abrasive grains from China.³ Therefore, in accordance with section 705(a)(1) of the Act and 19 CFR 351.210(b)(4)(i), Commerce is aligning the final CVD determination with the final LTFV determination. Consequently, the final CVD determination will be issued on the same date as the final LTFV determination, which is currently scheduled to be issued no later than August 11, 2025, unless postponed.

³ See Petitioner's Letter, “Request to Align Final Countervailing Duty Determination with the Companion Antidumping Duty Final Determination,” dated May 19, 2025.

This notice is issued and published pursuant to section 705(a)(1) of the Act and 19 CFR 351.210(b)(4)(I).

Dated: May 22, 2025.
Christopher Abbott,
Deputy Assistant Secretary for Policy and Negotiations, performing the non-exclusive functions and duties of the Assistant Secretary for Enforcement and Compliance.

[FR Doc. 2025-09665 Filed 5-28-25; 8:45 am]

BILLING CODE 3510-DS-P